DEPARTMENT OF ENERGY

Federal Energy Regulatory Commission

Combined Notice of Filings #1

Take notice that the Commission received the following electric rate filings:

Docket Numbers: ER10-2400-020.

Applicants: Blue Canyon Windpower LLC.

Description: Notice of Change in Status of Blue Canyon Windpower LLC.

Filed Date: 7/31/25.

Accession Number: 20250731-5290.

Comment Date: 5 p.m. ET 8/21/25.

Docket Numbers: ER17-1742-012; ER13-2490-016; ER17-311-012; ER19-53-008; ER19-2595-011; ER19-2670-011; ER19-2671-011; ER20-1073-010; ER20-2455-003; ER20-2510-010; ER20-2512-010; ER20-2515-010; ER20-2595-003; ER20-2663-010; ER21-2406-009; ER21-2407-009; ER21-2408-009; ER21-2409-009; ER21-2638-009; ER22-734-008; ER22-2028-007; ER22-2421-006; ER22-2422-004; ER22-2423-006; ER22-2424-005; ER22-2425-006; ER22-2426-005; ER22-2427-006; ER22-2428-005; ER23-1236-002; ER23-1237-004; ER23-2186-003; ER23-2188-003; ER23-2190-003; ER23-2512-003; ER23-2513-003; ER23-2520-003; ER23-2522-003; ER23-2523-003; ER23-2524-003; ER24-1281-001; ER24-1282-001; ER24-1284-002; ER24-1285-002.

Applicants: SR Toombs Lessee, LLC, SR Toombs, LLC, SR Ailey, LLC, Russellville Solar LLC, SR Lambert II, LLC, SR Lambert I, LLC, SR Georgetown, LLC, SR Litchfield, LLC, SR Canadaville Lessee, LLC, SR Canadaville, LLC, SR DeSoto III, LLC, SR DeSoto III Lessee, LLC, SR DeSoto II, LLC, SR Snipesville III, LLC, SR McNeal, LLC, SR McKellar Lessee, LLC, SR Cedar Springs, LLC, SR McKellar, LLC, SR Clay, LLC, SR Bell Buckle, LLC, SR DeSoto I Lessee, LLC, SR Turkey Creek, LLC, SR DeSoto I, LLC, SR Hazlehurst, LLC, SR Arlington, LLC, SR Perry, LLC, SR Snipesville II, LLC, SR Lumpkin, LLC, SR Georgia Portfolio II Lessee, LLC, Lancaster Solar LLC, SR Snipesville, LLC, SR Rattlesnake, LLC, SR Georgia Portfolio I MT, LLC, SR Baxley, LLC, Odom Solar LLC, SR Platte, LLC, SR Terrell, LLC, SR Arlington II, LLC, SR Meridian III, LLC, SR Hazlehurst III, LLC, SR Millington, LLC, SR South Loving LLC, Simon Solar, LLC, Hattiesburg Farm, LLC.

Description: Notice of Non-Material Change in Status of Hattiesburg Farm, LLC, et al.

Filed Date: 7/31/25.

Accession Number: 20250731-5296.

Comment Date: 5 p.m. ET 8/21/25.

Docket Numbers: ER25-704-002; ER10-1972-036; ER10-1841-036; ER10-1907-035; ER10-1918-036; ER10-1950-036; ER10-1951-090; ER10-1970-036; ER10-2005-036; ER10-2078-034; ER11-4462-113; ER12-1660-035; ER13-2458-030; ER10-1852-117; ER16-1509-004; ER16-1872-026; ER16-2506-028; ER17-838-087; ER17-2270-027; ER18-1771-026; ER18-2224-026; ER18-2246-025; ER19-987-023; ER19-1003-023; ER19-1393-023; ER19-1394-023; ER19-2373-019; ER19-2382-019; ER19-2398-021; ER19-2437-019; ER19-2461-019; ER20-122-017; ER20-1220-017; ER20-1796-004; ER20-1879-018; ER20-1987-018; ER20-2690-017; ER21-1320-013; ER21-1953-015; ER21-2048-015; ER21-2100-014; ER22-2536-010; ER22-2601-010; ER22-2634-010; ER23-568-010; ER23-2694-007; ER25-705-002; ER25-1285-001; ER25-1338-002; ER25-1340-002; ER25-1348-004; ER25-1349-004; ER25-1527-002; ER25-1744-001; ER25-1962-001; ER25-2210-001; ER25-2252-001; ER25-2253-001; ER25-2254-001; ER25-2293-001; ER25-2505-001; ER25-2506-001.

Applicants: Weirs Creek Solar, LLC, St. Landry Solar, LLC, Sebree Solar II, LLC, Singer Solar, LLC, Mondu Solar, LLC, Greer Solar, LLC, Delta Bobcat Solar, LLC, Century Oaks Energy Storage, LLC, Appleseed Solar, LLC, Knox County Wind Farm LLC, Sebree Solar, LLC, New Madrid Solar, LLC, Wildwood Solar, LLC, Flat Fork Solar, LLC, Mammoth Plains Wind, LLC, Green River Solar, LLC, Cereal City Solar, LLC, Big Cypress Solar, LLC, Buffalo Ridge Wind, LLC, Walleye Wind, LLC, Kossuth County Wind, LLC, Point Beach Solar, LLC, Sac County Wind, LLC, Heartland Divide Wind II, LLC, Crystal Lake Wind Energy III, LLC, Jordan Creek Wind Farm LLC, Cerro Gordo Wind, LLC, Oliver Wind I, LLC, Entergy Arkansas, LLC, Entergy Louisiana, LLC, Entergy Mississippi, LLC, Entergy New Orleans, LLC, Entergy Texas, Inc., Oliver Wind II, LLC, Crowned Ridge Interconnection, LLC, Crowned Ridge Wind, LLC, Emmons-Logan Wind, LLC, Hancock County Wind, LLC, Story County Wind, LLC, Ashtabula Wind I, LLC, Endeavor Wind II, LLC, Endeavor Wind I, LLC, Crystal Lake Wind Energy II, LLC, Crystal Lake Wind Energy I, LLC, Heartland Divide Wind Project, LLC, Pegasus Wind, LLC, Langdon Renewables, LLC, Stuttgart Solar, LLC, NextEra Energy Marketing, LLC, Oliver Wind III, LLC, Marshall Solar, LLC, New Wave Energy Corp, Florida Power & Light Company, Tuscola Wind II, LLC, Tuscola Bay Wind, LLC,NEPM II, LLC, White Oak Energy LLC, Ashtabula Wind II, LLC, NextEra Energy Duane Arnold, LLC, NextEra Energy Services Massachusetts, LLC, Garden Wind, LLC, FPL Energy North Dakota Wind II, LLC, FPL Energy North Dakota Wind, LLC, Butler Ridge Wind Energy Center, LLC, NextEra Energy Point Beach, LLC, Amite Solar, LLC.

Description: Notice of Change in Status of Amite Solar, LLC, et al.

Filed Date: 7/31/25.

Accession Number: 20250731-5294.

Comment Date: 5 p.m. ET 8/21/25.

Docket Numbers: ER25-741-001; ER25-742-001.

Applicants: Ratts 1 Phase 2 Solar, LLC, Ratts 1 Solar LLC.

Description: Notice of Non-Material Change in Status of Ratts 1 Solar LLC, et al.

Filed Date: 7/31/25.

Accession Number: 20250731-5292.

Comment Date: 5 p.m. ET 8/21/25.

Docket Numbers: ER25-2296-001.

Applicants: Southwest Power Pool, Inc.

Description: Compliance filing: Comp Filing—Sub. of Tariff to Implement Expedited Resource Adequacy Study to be effective 7/22/2025.

Filed Date: 8/6/25.

Accession Number: 20250806-5034.

Comment Date: 5 p.m. ET 8/27/25.

Docket Numbers: ER25-3092-000.

Applicants: PJM Interconnection, L.L.C.

Description: Tariff Amendment: Notice of Cancellation of ISA, SA No. 6840; AD2-067 re: cancellation to be effective 3/12/2025.

Filed Date: 8/5/25.

Accession Number: 20250805-5207.

Comment Date: 5 p.m. ET 8/26/25.

Docket Numbers: ER25-3093-000.

Applicants: ITC Great Plains, LLC, Southwest Power Pool, Inc.

Description: § 205(d) Rate Filing: ITC Great Plains, LLC submits tariff filing per 35.13(a)(2)(iii: 4450 NextEra Energy Resources & ITCGP Facilities Service Ag to be effective 10/6/2025.

Filed Date: 8/6/25.

Accession Number: 20250806-5033.

Comment Date: 5 p.m. ET 8/27/25.

Docket Numbers: ER25-3094-000.

Applicants: PJM Interconnection, L.L.C.

Description: § 205(d) Rate Filing: NSA, Original Service Agreement No. 7729 Queue No. AF1-064 to be effective 10/6/2025.

Filed Date: 8/6/25.

Accession Number: 20250806-5040.

Comment Date: 5 p.m. ET 8/27/25.

Docket Numbers: ER25-3095-000.

Applicants: FirstEnergy Service Company, The Potomac Edison Company.

Description: § 205(d) Rate Filing: The Potomac Edison Company submits tariff filing per 35.13(a)(2)(iii: Potomac Edison CWIP Incentive Application to be effective 10/6/2025.

Filed Date: 8/6/25.

Accession Number: 20250806-5046.

Comment Date: 5 p.m. ET 8/27/25.

Docket Numbers: ER25-3096-000.

Applicants: Evergy Kansas Central, Inc.

Description: Tariff Amendment: Notice of Cancellation of Rate Schedule 326 Doniphan to be effective 5/31/2025.

Filed Date: 8/6/25.

Accession Number: 20250806-5053.

Comment Date: 5 p.m. ET 8/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 6, 2025.
Debbie-Anne A. Reese,
Secretary.

[FR Doc. 2025-15222 Filed 8-8-25; 8:45 am]

BILLING CODE 6717-01-P